DEPARTMENT OF AGRICULTURE

Office of the Assistant Secretary for Civil Rights; Notice of Request for Emergency Approval of New Information Collection, Paper Reduction Act of 1995

AGENCY: Office of the Assistant Secretary for Civil Rights, USDA/1890 Programs.

ACTION: Notice and request for comments.

SUMMARY: In accordance with the Paperwork Reduction Act of 1995 (44 U.S.C. Chapter 35), this notice announces the Office of the Assistant Secretary for Civil Rights, USDA/1890 Program intention to request an emergency approval of information collection for the USDA/1890 National Scholars Program.

DATES: Comments on this notice must be received to be assured of consideration.

Additional Information or Comments: Contact Carl Butler, USDA/1890 National Scholars Program Manager, U.S. Department of Agriculture, 300 7th Street, SW., Suite 266, Room 273, Washington, DC 20024 (202) 205-2641 (Fax number).

SUPPLEMENTARY INFORMATION: Overview of the information collected.

Title: USDA/1890 National Scholars Program Application.

Type of Request: Emergency approval of new information collection.

Abstract: The USDA/1890 National Scholars Program is a joint human capital initiative between the U.S. Department of Agriculture (USDA) and Historical Black Land-Grant Universities. Through the Program, USDA offers scholarships to high school students who are seeking a bachelor's degree, in the fields of agriculture, food, or natural resource sciences and related majors, at one of the eighteen Historically Black Land-Grant Universities. In order for graduating high school students to be considered for the scholarship, a completed application is required. The first section of the application requests the applicant to include biographical information (e.g., name, address, age, etc.); educational background information (e.g., grade point average, test scores, name of university(ies) interested in attending, and desired major); and extracurricular activities. The second of the application section is completed by the student's guidance counselor and requests information pertaining to the student's academic status, grade point average, and test scores. The last section of the application, which is to be completed by a teacher, provides information that assesses the applicant's interest, habits, and potential. All of this information is used to assist the selecting agencies in their process of identifying potential recipients of the scholarship.

Estimate of Burden: Public reporting burden for this collection of information is estimated to average 1 hour per respondent.

Respondents: High school students, teachers, guidance counselors (each application requires 3 respondents to complete a section).

Estimated Number of Respondents: 1,200 (400 applications).

Estimated Number of Responses per Respondent: 1.

Estimated Total Annual Burden on Respondents: 3,600 hours.

Comments are invited on: (1) Whether the proposed collection of information is necessary for the proper performance of the agency's functions, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology. Comments may be sent to: Carl Butler, 300 7th Street, SW., Reporter's Building, Suite 266, Room 273, Washington, DC 20024. All comments received will be available for public inspection during regular business hours at the same address.

All responses to this notice will be summarized and included in the request for Office of Management and Budget approval. All comments will become a matter of public record.

Arthur L. Neal,
Acting Director, USDA/1890 Programs.

[FR Doc. E8-19457 Filed 8-21-08; 8:45 am]

BILLING CODE 3410-01-P